FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of the agreements are available through the Commission's website (www.fmc.gov) or by contacting the Office of Agreements at (202)-523-5793 or tradeanalysis@fmc.gov.

Agreement No.: 001941-004.

Agreement Name: Baltimore Marine Terminal Association.

Parties: Balterm LLC; Ceres Marine Terminals Inc.; Mid-Atlantic Terminal, LLC; and Ports America Chesapeake, LLC.

Filing Party: JoAnne Zawitoski; Baltimore Marine Terminal Association.

Synopsis: The amendment updates the membership of the Agreement and restates the Agreement.

Proposed Effective Date: 10/6/2018.

Location: https://www2.fmc.gov/FMC.Agreements.Web/Public/AgreementHistory/16271.

Agreement No.: 201267.

Agreement Name: CMA CGM/COSCO Shipping Slot Exchange Agreement China—U.S. West Coast.

Parties: CMA CGM S.A. and COSCO Shipping Lines Co., Ltd.

Filing Party: Eric Jeffrey; Nixon Peabody.

Synopsis: The Agreement authorizes the parties to exchange slots on their respective services between ports in China (including Hong Kong) and ports on the U.S. West Coast.

Proposed Effective Date: 8/20/2018.

Location: https://www2.fmc.gov/FMC.Agreements.Web/Public/AgreementHistory/15267.

Agreement No.: 201268.

Agreement Name: Kyowa Shipping Company (Kyowa)/China Navigation Company (CNCo) Pacific—Asia Slot Charter Agreement.

Parties: The China Navigation Company Pte Ltd. and Kyowa Shipping Company, Ltd.

Filing Party: Conte Cicala; Clyde & Co. US LLP.

Synopsis: The Agreement authorizes the parties to charter slots to each other in other services between Asia and ports in the South Pacific.

Proposed Effective Date: 10/5/2018.

Location: https://www2.fmc.gov/FMC.Agreements.Web/Public/AgreementHistory/15268.

Agreement No.: 201269.

Agreement Name: Seaboard/Crowley Miami & Kingston Space Charter Agreement.

Parties: Seaboard Marine, Ltd. and Crowley Caribbean Services, LLC.

Filing Party: Wayne Rohde; Cozen O'Connor.

Synopsis: The Agreement authorizes Seaboard to charter space to Crowley in the trade between Miami, FL and Kingston, Jamaica.

Proposed Effective Date: 10/6/2018.

Location: https://www2.fmc.gov/FMC.Agreements.Web/Public/AgreementHistory/15289.

Dated: August 24, 2018.
Rachel Dickon,
Secretary.

[FR Doc. 2018-18748 Filed 8-28-18; 8:45 am]

BILLING CODE 6731-AA-P